OCCUPATIONAL SAFETY AND HEALTH REVIEW COMMISSION

Privacy Act of 1974; New Blanket Routine Use

AGENCY: Occupational Safety and Health Review Commission.

ACTION: Notice of New Blanket Routine Use.

SUMMARY: In accordance with the Privacy Act of 1974, 5 U.S.C. 552a, as amended, the Occupational Safety and Health Review Commission (OSHRC) is proposing in this notice the addition of a new blanket routine use. OSHRC's Privacy Act system-of-records notices are published at 71 FR 19556, 19556-67 (Apr. 14, 2006), 72 FR 54301, 54301-03 (Sept. 24, 2007), and 81 FR 44335, 44335-37 (July 7, 2016), with additional blanket routine uses published at 73 FR 45256, 45256-57 (Aug. 4, 2008), and 80 FR 60182, 60182 (Oct. 5, 2015).

DATES: Comments must be received by OSHRC on or before October 30, 2017. The new blanket routine use will become effective on that date, without any further notice in the Federal Register, unless comments or government approval procedures necessitate otherwise.

ADDRESSES: You may submit comments by any of the following methods:

• Email: rbailey@oshrc.gov. Include “PRIVACY ACT BLANKET ROUTINE USE” in the subject line of the message.

• Fax: (202) 606-5417.

• Mail: One Lafayette Centre, 1120 20th Street NW., Ninth Floor, Washington, DC 20036-3457.

• Hand Delivery/Courier: Same as mailing address.

Instructions: All submissions must include your name, return address and email address, if applicable. Please clearly label submissions as “PRIVACY ACT BLANKET ROUTINE USE.”

FOR FURTHER INFORMATION CONTACT: Ron Bailey, Attorney-Advisor, Office of the General Counsel, via telephone at (202) 606-5410, or via email at rbailey@oshrc.gov.

SUPPLEMENTARY INFORMATION: The Privacy Act of 1974, 5 U.S.C. 552a(e)(4) and (11), requires OSHRC to publish in the Federal Register notice of any new routine use of an OSHRC system of records, and to provide an opportunity for interested persons to submit written data, views, or arguments to the agency.

On January 3, 2017, the Office of Management and Budget (OMB) issued Preparing for and Responding to a Breach of Personally Identifiable Information, OMB Memorandum 17-12, to the heads of all executive departments and agencies. Among other things, this memorandum requires the addition of a routine use to ensure that agencies, such as OSHRC, are able to disclose records in their systems of records that may reasonably be needed by another agency in responding to a breach. OSHRC is therefore proposing the addition of a new blanket routine use that conforms to the language required by OMB.

OSHRC's proposed blanket routine use is published below. Twelve other blanket routine uses, which remain in effect, were last published at 71 FR 19556, 19558-59 (Apr. 14, 2006), 73 FR 45256, 45256-57 (Aug. 4, 2008), and 80 FR 60182, 60182 (Oct. 5, 2015).

Blanket Routine Uses

(13) A record from an OSHRC system of records may be disclosed as a blanket routine use to another Federal agency or Federal entity, when OSHRC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Date: September 21, 2017.
Nadine N. Mancini,
General Counsel, Senior Agency Official for Privacy.

[FR Doc. 2017-20755 Filed 9-27-17; 8:45 am]

BILLING CODE 7600-01-P